ENVIRONMENTAL PROTECTION AGENCY

[FRL-7582-9]

Proposed Settlement Under Section 122(h) of the Comprehensive Environmental Response, Compensation and Liability Act Regarding the Global Landfill Superfund Site, Middlesex County, NJ

AGENCY: Environmental Protection Agency.

ACTION: Notice of proposed administrative settlement and opportunity for public comment.

SUMMARY: The United States Environmental Protection (EPA) is proposing to enter into an administrative settlement to resolve claims under the Comprehensive Environmental Response, Compensation and Liability Act of 1980 (CERCLA), as amended. Notice is being published to inform the public of the proposed settlement and of the opportunity to comment. The administrative settlement is intended to resolve the United States' claims for past response costs against the following potentially responsible parties (“PRPs”): Browning-Ferris Industries, Inc.; Chevron Chemical Company; Consolidated Edison Company of New York; E.I. Dupont de Nemours & Co.; FMC Corporation; Jersey Central Power & Light Company d/b/a GPU Energy; Gerdau AmeriSteel-Perth Amboy Mill f/k/a Co-Steel Raritan, f/k/a River Steel Company; Shell Oil Company; Johnson & Johnson; and Merck & Co., Inc. (collectively, “Settling Parties”). The administrative settlement concerns the Global Landfill Superfund Site located in Middlesex County, New Jersey.

In accordance with section 122(h)(i)(1) of CERCLA, notice is hereby given of a proposed administrative settlement concerning the Global Landfill Superfund Site located in Middlesex County, New Jersey. Section 122(h) of CERCLA provides EPA with the authority to consider, compromise and settle certain claims for costs incurred by the United States.

Pursuant to the administrative settlement, the Settling Parties will pay the U.S. Environmental Protection Agency $474,000 as reimbursement of past response costs incurred by EPA in connection with the Site. Past response costs are defined as response costs incurred by EPA on or prior to May 19, 2001.

EPA will consider any comments received during the comment period and may withdraw or withhold consent to the proposed settlement if comments disclose facts or considerations that indicate the proposed settlement is inappropriate, improper, or inadequate. EPA's response to any comments received will be available for public inspection at the U.S. Environmental Protection Agency, Office of Regional Counsel, 290 Broadway—17th floor, New York, New York 10007-1866. Telephone: (212) 637-3111.

DATES: Comments must be provided by December 4, 2003.

ADDRESSES: Comments should be sent to the U.S. Environmental Protection Agency, Office, of Regional Counsel, 290 Broadway—17th Floor, New York, NY 10007 and should refer to: In the Matter of the Global Landfill Superfund Site, U.S. EPA Index No. II CERCLA-02-2003-2021.

FOR FURTHER INFORMATION CONTACT: U.S. Environmental Protection Agency, Office of Regional Counsel, 290 Broadway—17th Floor, New York, NY 10007, (212) 637-3111.

SUPPLEMENTARY INFORMATION: A copy of the proposed administrative settlement, as well as background information relating to the settlement, may be obtained in person or by mail from Juan Fajardo, U.S. Environmental Protection Agency, Office of Regional Counsel, 290 Broadway—17th Floor, New York, NY 10007. Telephone: (212) 637-3132.

Dated: October 17, 2003.
George Pavlou,
Director, Emergency & Remedial Response Division, Region 2.

[FR Doc. 03-27673 Filed 11-3-03; 8:45 am]

BILLING CODE 6560-50-P